DEPARTMENT OF ENERGY

Federal Energy Regulatory Commission

Combined Notice of Filings

Take notice that the Commission has received the following Natural Gas Pipeline Rate and Refund Report filings:

Docket Numbers: RP11-1866-000

Applicants: Empire Pipeline, Inc.

Description: Empire Pipeline, Inc. submits tariff filing per 154.203: Deferred State Income Tax Balance to be effective N/A.

Filed Date: 03/02/2011

Accession Number: 20110302-5089

Comment Date: 5 p.m. Eastern Time on Friday, April, 1, 2011

Docket Numbers: RP11-1905-000

Applicants: Texas Gas Transmission, LLC

Description: Texas Gas Transmission, LLC submits tariff filing per 154.204: 3-28-11 ProLiance Negotiated Rate Agreement Filing to be effective 4/1/2011.

Filed Date: 03/28/2011

Accession Number: 20110328-5062

Comment Date: 5 p.m. Eastern Time on Monday, April 11, 2011

Docket Numbers: RP11-1906-000

Applicants: Texas Gas Transmission, LLC

Description: Texas Gas Transmission, LLC submits tariff filing per 154.204: 3-28-11 TVA Negotiated Rate Agreement Filing to be effective 4/1/2011.

Filed Date: 03/28/2011

Accession Number: 20110328-5063

Comment Date: 5 p.m. Eastern Time on Monday, April 11, 2011

Docket Numbers: RP11-1907-000

Applicants: Gulf South Pipeline Company, LP

Description: Gulf South Pipeline Company, LP submits tariff filing per 154.204: QEP Amendment to Negotiated Rate Agreement to be effective 4/1/2011.

Filed Date: 03/28/2011

Accession Number: 20110328-5088

Comment Date: 5 p.m. Eastern Time on Monday, April 11, 2011

Docket Numbers: RP11-1908-000

Applicants: Columbia Gulf Transmission Company

Description: Columbia Gulf Transmission Company submits tariff filing per 154.204: Negotiated Rate Service Agreement—Chevron, PXP, McMoran to be effective 5/1/2011.

Filed Date: 03/28/2011

Accession Number: 20110328-5105

Comment Date: 5 p.m. Eastern Time on Monday, April 11, 2011

Docket Numbers: RP11-1909-000

Applicants: Transcontinental Gas Pipe Line Company,

Description: Transcontinental Gas Pipe Line Company, LLC submits tariff filing per 154.204: GT&C Section 25 Monthly Imbalance Resolution to be effective 7/1/2011.

Filed Date: 03/28/2011

Accession Number: 20110328-5108

Comment Date: 5 p.m. Eastern Time on Monday, April 11, 2011

Docket Numbers: RP11-1910-000

Applicants: Rockies Express Pipeline LLC

Description: Rockies Express Pipeline LLC submits tariff filing per 154.204: Negotiated Rate 03-29-11 BP to be effective 4/1/2011.

Filed Date: 03/29/2011

Accession Number: 20110329-5031

Comment Date: 5 p.m. Eastern Time on Monday, April 11, 2011

Docket Numbers: RP11-1911-000

Applicants: Texas Eastern Transmission, LP

Description: Texas Eastern Transmission, LP submits tariff filing per 154.204: NJR negotiated rate, to be effective 4/1/2011.

Filed Date: 03/29/2011

Accession Number: 20110329-5037

Comment Date: 5 p.m. Eastern Time on Monday, April 11, 2011

Docket Numbers: RP11-1912-000

Applicants: Trunkline Gas Company, LLC

Description: Trunkline Gas Company, LLC submits tariff filing per 154.204: Negotiated Rates Filing-7 to be effective 4/1/2011.

Filed Date: 03/29/2011

Accession Number: 20110329-5041

Comment Date: 5 p.m. Eastern Time on Monday, April 11, 2011

Docket Numbers: RP11-1913-000

Applicants: Texas Gas Transmission, LLC

Description: Texas Gas Transmission, LLC submits tariff filing per 154.204: Time Limitations Filing to be effective 4/28/2011.

Filed Date: 03/29/2011

Accession Number: 20110329-5065

Comment Date: 5 p.m. Eastern Time on Monday, April 11, 2011

Docket Numbers: RP11-1914-000

Applicants: Gulf South Pipeline Company, LP

Description: Gulf South Pipeline Company, LP submits tariff filing per 154.204: Open Season Agreements Filing to be effective 4/1/2011.

Filed Date: 03/29/2011

Accession Number: 20110329-5077

Comment Date: 5 p.m. Eastern Time on Monday, April 11, 2011

Docket Numbers: RP11-1915-000

Applicants: Gulf South Pipeline Company, LP

Description: Gulf South Pipeline Company, LP submits tariff filing per 154.204: Pivotal to Sequent Cap Rel Negotiated Rate Agreement Filing to be effective 4/1/2011.

Filed Date: 03/29/2011

Accession Number: 20110329-5078

Comment Date: 5 p.m. Eastern Time on Monday, April 11, 2011

Docket Numbers: RP11-1916-000

Applicants: Gulf South Pipeline Company, LP

Description: Gulf South Pipeline Company, LP submits tariff filing per 154.204: QEP 36601 Amendment to Negotiated Rate Agreement to be effective 4/1/2011.

Filed Date: 03/29/2011

Accession Number: 20110329-5079

Comment Date: 5 p.m. Eastern Time on Monday, April 11, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 29, 2011.
Nathaniel J. Davis, Sr.,
Deputy Secretary.

[FR Doc. 2011-8265 Filed 4-6-11; 8:45 am]

BILLING CODE 6717-01-P